Title 3—

The President

Executive Order 13608 of May 1, 2012

Prohibiting Certain Transactions With and Suspending Entry Into the United States of Foreign Sanctions Evaders With Respect to Iran and Syria

By the authority vested in me as President by the Constitution and the laws of the United States of America, including the International Emergency Economic Powers Act (50 U.S.C. 1701 et seq.) (IEEPA), the National Emergencies Act (50 U.S.C. 1601 et seq.), section 212(f) of the Immigration and Nationality Act of 1952, as amended (8 U.S.C. 1182(f)), and section 301 of title 3, United States Code,

I, BARACK OBAMA, President of the United States of America, hereby find that efforts by foreign persons to engage in activities intended to evade U.S. economic and financial sanctions with respect to Iran and Syria undermine our efforts to address the national emergencies declared in Executive Order 12957 of March 15, 1995, as relied on for additional steps in subsequent Executive Orders, in Executive Order 13338 of May 11, 2004, as modified in scope and relied on for additional steps in subsequent Executive Orders, in Executive Order 12938 of November 14, 1994, as relied on for additional steps in subsequent Executive Orders, and in Executive Order 13224 of September 23, 2001, as relied on for additional steps in subsequent Executive Orders, and in order to take additional steps pursuant to these national emergencies, I hereby order:

Section 1. (a) The Secretary of the Treasury, in consultation with the Secretary of State, is hereby authorized to impose on a foreign person the measures described in subsection (b) of this section upon determining that the foreign person:

(i) has violated, attempted to violate, conspired to violate, or caused a violation of any license, order, regulation, or prohibition contained in, or issued pursuant to:

(A) any Executive Order relating to the national emergencies declared in Executive Order 12957 of March 15, 1995, or in Executive Order 13338 of May 11, 2004, as modified in scope in subsequent Executive Orders; or

(B) to the extent such conduct relates to property and interests in property of any person subject to United States sanctions concerning Iran or Syria, Executive Order 13382 of June 28, 2005, any Executive Order subsequent to Executive Order 13382 of June 28, 2005, that relates to the national emergency declared in Executive Order 12938 of November 14, 1994, or any Executive Order relating to the national emergency declared in Executive Order 13224 of September 23, 2001;

(ii) has facilitated deceptive transactions for or on behalf of any person subject to United States sanctions concerning Iran or Syria; or

(iii) is owned or controlled by, or is acting or purporting to act for or on behalf of, directly or indirectly, any person determined to meet the criteria set forth in subsection (a) of this section.

(b) With respect to any foreign person determined to meet the criteria set forth in subsection (a) of this section, the Secretary of the Treasury may prohibit all transactions or dealings, whether direct or indirect, involving such person, including any exporting, reexporting, importing, selling, purchasing, transporting, swapping, brokering, approving, financing, facilitating, or guaranteeing, in or related to (i) any goods, services, or technology in or intended for the United States, or (ii) any goods, services, or technology provided by or to United States persons, wherever located.

(c) The prohibitions in subsection (b) of this section apply except to the extent provided by statutes, or in regulations, orders, directives, or licenses that may be issued pursuant to this order, and notwithstanding any contract entered into or any license or permit granted prior to the date of this order.

Sec. 2. I hereby determine that the making of donations of the type of articles specified in section 203(b)(2) of IEEPA (50 U.S.C. 1702(b)(2)) by, to, or for the benefit of any person subject to the measures described in section 1 of this order would seriously impair my ability to deal with the national emergencies identified in the preamble to this order, and I hereby prohibit such donations as provided by section 1 of this order.

Sec. 3. The prohibitions in section 1 of this order include but are not limited to:

(a) the making of any contribution or provision of funds, goods, or services by, to, or for the benefit of any person subject to the measures described in this order; and

(b) the receipt of any contribution or provision of funds, goods, or services from any such person.

Sec. 4. I hereby find that the unrestricted immigrant and nonimmigrant entry into the United States of aliens determined to meet one or more of the criteria in subsection 1(a) of this order would be detrimental to the interests of the United States, and I hereby suspend the entry into the United States, as immigrants or nonimmigrants, of such persons. Such persons shall be treated as persons covered by section 1 of Proclamation 8693 of July 24, 2011 (Suspension of Entry of Aliens Subject to United Nations Security Council Travel Bans and International Emergency Economic Powers Act Sanctions).

Sec. 5. (a) Any transaction by a United States person or within the United States that evades or avoids, has the purpose of evading or avoiding, causes a violation of, or attempts to violate any of the prohibitions set forth in this order is prohibited.

(b) Any conspiracy formed to violate any of the prohibitions set forth in this order is prohibited.

Sec. 6. Nothing in section 1 of this order shall prohibit transactions for the conduct of the official business of the United States Government by employees, grantees, or contractors thereof.

Sec. 7. For the purposes of this order:

(a) the term “person” means an individual or entity;

(b) the term “entity” means a partnership, association, trust, joint venture, corporation, group, subgroup, or other organization;

(c) the term “United States person” means any United States citizen, permanent resident alien, entity organized under the laws of the United States or any jurisdiction within the United States (including foreign branches), or any person in the United States;

(d) the term “deceptive transaction” means any transaction where the identity of any person subject to United States sanctions concerning Iran or Syria is withheld or obscured from other participants in the transaction or any relevant regulatory authorities;

(e) the term “person subject to United States sanctions concerning Iran or Syria” means (i) any person, including the Government of Iran or the Government of Syria, with whom transactions are restricted pursuant to any Executive Order relating to the national emergencies declared in Executive Order 12957 of March 15, 1995, or in Executive Order 13338 of May 11, 2004, as modified in scope in subsequent Executive Orders, or (ii) any person whose property and interests in property are blocked pursuant to IEEPA in connection with Iran's or Syria's proliferation of weapons of mass destruction or delivery systems for weapons of mass destruction, or Iran's or Syria's support for international terrorism;

(f) the term “Government of Iran” means the Government of Iran, any political subdivision, agency, or instrumentality thereof, including the Central Bank of Iran, and any person owned or controlled by, or acting for or on behalf of, the Government of Iran; and

(g) the term “Government of Syria” means the Government of the Syrian Arab Republic, its agencies, instrumentalities, and controlled entities.

Sec. 8. For those persons subject to the measures described in section 1 of this order who might have a constitutional presence in the United States, I find that because of the ability to transfer funds or other assets instantaneously, prior notice to such persons of measures to be taken pursuant to this order would render those measures ineffectual. I therefore determine that for these measures to be effective in addressing the national emergencies identified in the preamble to this order, there need be no prior notice of a listing or determination made pursuant to section 1 of this order.

Sec. 9. The Secretary of the Treasury, in consultation with the Secretary of State, is hereby authorized to take such actions, including the promulgation of rules and regulations, and to employ all powers granted to the President by IEEPA, as may be necessary to carry out the purposes of this order. The Secretary of the Treasury may redelegate any of these functions to other officers and agencies of the United States Government consistent with applicable law. All agencies of the United States Government are hereby directed to take all appropriate measures within their authority to carry out the provisions of this order.

Sec. 10. This order is not intended to, and does not, create any right or benefit, substantive or procedural, enforceable at law or in equity by any party against the United States, its departments, agencies, or entities, its officers, employees, or agents, or any other person.

Sec. 11. The measures taken pursuant to this order with respect to Iran are in response to actions of the Government of Iran occurring after the conclusion of the 1981 Algiers Accords, and are intended solely as a response to those later actions.

THE WHITE HOUSE,

May 1, 2012.

[FR Doc. 2012-10884

Filed 5-2-12; 11:15 am]

Billing code 3295-F2-P